DEPARTMENT OF HEALTH AND HUMAN SERVICES

Centers for Disease Control and Prevention

[60Day-14-0892]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to LeRoy Richardson, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Clostridium difficile Infection (CDI) Surveillance (0920-0892, Expiration 07/31/2014)—Extension—National Center for Emerging and Zoonotic Infectious Diseases (NCEZID), Centers for Disease Control and Prevention (CDC).

Background and Brief Description

Steady increases in the rate and severity of Clostridium difficile infection (CDI) indicate a clear need to conduct longitudinal assessments to continue to monitor changes in CDI epidemiology, including changes in risk factors for disease, as well as increases The surveillance population will consist of persons residing in the catchment area of the participating Emerging Infections Program (EIP) sites who are 1 year of age or older. This surveillance poses no more than minimal risk to the study participants as there will be no interventions or modifications to the care study participants receive. EIP surveillance personnel will perform active case finding from laboratory reports of stool specimens testing positive for C. difficile toxin and abstract data on cases using a standardized case report form. For a subset of cases (e.g., community-associated C. difficile cases) sites will administer a health interview.

CDC requests Office of Management and Budget (OMB) extension of standardized data collection for an additional three years. The epidemiology of C. difficile continues to evolve and incidence of disease is still high with no significant declines being observed. Continuing to understand what put persons at risk for C. difficile in the community is critical to inform prevention strategies. There are no changes in the burden estimates or data collection instruments from what is shown in the current inventory.

A total of 600 individuals who develop CDI will be contacted for a telephone interview annually and of those it is estimated that 500 will meet study inclusion criteria. The interview screening is estimated to take 5 minutes and the full telephone interview is estimated to take 40 minutes. Therefore, the total estimated annualized burden for this data collection is estimated to be 383 hours.

There are no costs to the respondents other than their time.

Estimated Annualized Burden Hours
Type of respondents | Form name | Number of respondents | Number of responses per respondent | Avg. burden per response (in hrs.) | Total burden (in hrs.)
Persons in the community infected with C. difficile | Screening Form | 600 | 1 | 5/60 | 50
| Telephone Interview | 500 | 1 | 40/60 | 333
Total |  |  |  |  | 383

Leroy A. Richardson,
Chief, Information Collection Review Office, Office of Scientific Integrity, Office of the Associate Director for Science, Office of the Director, Centers for Disease Control and Prevention.

[FR Doc. 2013-25862 Filed 10-30-13; 8:45 am]

BILLING CODE 4163-18-P